DEPARTMENT of JUSTICE

Executive Office for Immigration Review

8 CFR Part 1240

Proceedings To Determine Removability of Aliens in the United States

CFR Correction

In Title 8 of the Code of Federal Regulations, revised as of January 1, 2018, on pages 1017-1018, in § 1240.26, paragraphs (b)(1)(iii) and (iv) are redesignated as paragraphs (b)(3)(iii) and (iv).

[FR Doc. 2018-27859 Filed 12-20-18; 8:45 am]

BILLING CODE 1301-00-D